COMMISSION ON CIVIL RIGHTS

Agenda and Notice of Public Meeting of the New Jersey State Advisory Committee

Notice is hereby given, pursuant to the provisions of the rules and regulations of the U.S. Commission on Civil Rights and the Federal Advisory Committee Act (FACA), that briefing and planning meetings will be convened by the New Jersey State Advisory Committee to the U.S. Commission on Civil Rights on Friday, March 4, 2011 at the Legislative Annex, 125 West State Street, Committee Room 6, Trenton, New Jersey 08625. In addition, the committee has scheduled a press conference at 1 p.m. (EST) in Room 1 of the Legislative Annex.

The purpose of the briefing is to review the accommodations that the New Jersey Department of Corrections provides to inmates with non-apparent disabilities, including mental health, learning, and developmental disabilities, as required by the Americans with Disabilities Act. The purpose of the planning meeting is to plan future activities. The purpose of the press conference is to discuss the committee's recent report titled Overcoming the Barriers Faced by Immigrants.

Members of the public are entitled to submit written comments; the comments must be received in the regional office by April 4, 2011. Written comments may be mailed, e-mailed, or faxed to the Eastern Regional Office (ERO). Persons who desire additional information may make their request by mail, e-mail, phone, or fax. See contact information below.

Records generated from these meetings may be inspected and reproduced at the ERO, as they become available, both before and after the meetings. Persons interested in the work of this advisory committee are directed to the Commission's Web site, http://www.usccr.gov, or may contact the ERO. See contact information below.

Persons who are deaf or hearing-impaired who will attend the meetings and require the services of a sign language interpreter should contact the ERO at least ten (10) days before the scheduled date of the meeting either by e-mail or through the TDD relay service. See contact information below.

The meeting will be conducted pursuant to the rules and regulations of the Commission and FACA.

Contact Information

Mailing address: Eastern Regional Office, U.S. Commission on Civil Rights, 624 Ninth Street, NW., Suite 740, Washington, DC 20425.

Telephone #: 202-376-7533.

Fax #: 202-376-7548.

E-mail address: ero@usccr.gov.

TDD: Dial 711 for relay services and dial 202-376-5533.

Dated in Washington, DC, on February 15, 2011.
Peter Minarik,
Acting Chief, Regional Programs Coordination Unit.

[FR Doc. 2011-3814 Filed 2-18-11; 8:45 am]

BILLING CODE 6335-01-P